DEPARTMENT OF AGRICULTURE

Food Safety and Inspection Service

[Docket No. 03-034N]

Codex Alimentarius Commission: Meeting of the Codex Committee on Food Import and Export Inspection and Certification Systems

AGENCY: Office of the Under Secretary for Food Safety, USDA.

ACTION: Notice.

SUMMARY: The Office of the Under Secretary for Food Safety, United States Department of Agriculture and the United States Department of Health and Human Services, Food and Drug Administration (FDA), are sponsoring two public meetings. The first meeting will be held on October 22, 2003, to review and receive comments in preparation to develop draft U.S. positions, and the second will be held on November 12, 2003, to provide information and receive public comments on the U.S. Draft positions for agenda items that will be discussed at the Codex Committee on Food Import and Export Inspection and Certification Systems (CCFICS), which will be held in Brisbane, Australia, December 1-5, 2003. The Under Secretary and FDA recognize the importance of providing interested parties with information on the Twelfth Session of CCFICS and to address items on the Agenda.

DATES: The public meetings are scheduled for Wednesday, October 22, 2003, from 1 p.m. to 4 p.m., and Wednesday, November 12, 2003, from 1 p.m. to 3 p.m.

ADDRESSES: The public meetings will be held in Room 1A001 of the Harvey W. Wiley Federal Building, 5100 Paint Branch Pkwy, College Park, MD (green line, College Park Metro stop).

To receive copies of the documents referenced in this notice, contact the Food Safety and Inspection Service (FSIS) Docket Clerk, U.S. Department of Agriculture, FSIS, Room 102, Cotton Annex, 300 12th Street, SW., Washington, DC 20250-3700. The documents will also become available via the World Wide Web at the following address: http://codexalimentarius.net/current.asp. If you have comments, please send an original and two copies to the FSIS Docket Clerk and reference Docket #03-034N. All comments submitted will be available for public inspection in the Docket Clerk's Office between 8:30 a.m. and 4:30 p.m., Monday through Friday.

FOR FURTHER INFORMATION CONTACT: Edith Kennard, Staff Officer, U.S. Codex Office, Food Safety and Inspection Service, Room 4861, South Agriculture Building, 1400 Independence Avenue SW., Washington, DC 20250-3700, telephone (202) 720-5261, Fax: (202) 720-3157.

SUPPLEMENTARY INFORMATION:

Background

The Codex Alimentarius Commission (Codex) was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and EPA manage and carry out U.S. Codex.

The Codex Committee on Food Import and Export Inspection and Certification Systems was established to develop principles and guidelines for food import and export inspection and certification systems to facilitate trade through harmonization and to supply safe and quality foods to consumers. The CCFICS develops principles and guidelines for the application of measures by competent authorities to provide assurance that food comply with essential requirements. Additionally, the CCFICS develops guidelines for quality assurance systems to ensure that foods conform with essential requirements.

The following issues will be discussed during the public meetings:

1. Proposed Draft Revision to the Codex Guidelines for the Exchange of Information on Food Control Emergency Situations.

2. Discussion Paper on Traceability/Product Tracing in the Context of Food Import and Export Inspection and Certification Systems.

3. Discussion Paper on the Judgment of Equivalence of Technical Regulations Associated with Food Inspection and Certification Systems.

Additional Public Notification

Public involvement in all segments of rulemaking and policy development is important. Consequently, in an effort to ensure that minorities, women, and persons with disabilities are aware of this notice and informed about the mechanism for providing their comments, FSIS will announce it and make copies of this Federal Register publication available through the FSIS Constituent Update. FSIS provides a weekly FSIS Constituent Update, which is communicated via Listserv, a free e-mail subscription service. In addition, the update is available on line through the Internet at http://www.fsis.usda.gov. The update is used to provide information regarding FSIS policies, procedures, regulations, Federal Register notices, FSIS public meetings, recalls, and any other types of information that could affect or would be of interest to our constituents and stakeholders. The constituent Listserv consists of industry, trade, and farm groups, consumer interest groups, allied health professionals, scientific professionals, and other individuals who have requested to be included. Through the Listserv and Web page, FSIS is able to provide information to a much broader, more diverse audience.

For more information, contact the Congressional and Public Affairs Office at (202) 720-9113. To be added to the free e-mail subscription service (Listserv), go to the “Constituent Update” page on the FSIS web site at http://www.fsis.usda.gov/oa/update.htm. Click on the “Subscribe to the Constituent Update Listserv” link, then fill out and submit the form.

Done at Washington, DC, on October 2, 2003.
F. Edward Scarbrough,
U.S. Manager for Codex.

[FR Doc. 03-25460 Filed 10-7-03; 8:45 am]

BILLING CODE 3410-DM-P